DEPARTMENT OF COMMERCE

National Oceanic and Atmospheric Administration

[RTID 0648-XE968]

Endangered and Threatened Species; Take of Anadromous Fish

AGENCY: National Marine Fisheries Service (NMFS), National Oceanic and Atmospheric Administration (NOAA), Department of Commerce.

ACTION: Notice of availability.

SUMMARY: Notice is hereby given that NMFS has received applications for renewal of two enhancement permit applications pursuant to the Endangered Species Act (ESA) for hatchery operations rearing and releasing Snake River Fall-run Chinook salmon in the Snake River basin of Idaho. The applications are in the form of two existing hatchery and genetic management plans (HGMPs), and two addendums. This new addendum and the associated prior documents describe programs operated by the Nez Perce Tribe (NPT), Washington Department of Fish and Wildlife (WDFW), Oregon Department of Fish and Wildlife (ODFW) and Idaho Department of Fish and Game (IDFG), and funded by the United States Fish and Wildlife Service (USFWS) through the Lower Snake Compensation Plan (LSRCP), Idaho Power Company (IPC), and the Bonneville Power Administration (BPA). This document serves to notify the public of the availability and opportunity to comment on an HGMP and associated Addendums on the proposed hatchery programs.

DATES: Comments must be received at the appropriate address (see ADDRESSES) no later than 5 p.m. Pacific Time on September 3, 2025. Comments received after this date may not be considered.

ADDRESSES: Written comments should be addressed to the NMFS Sustainable Fisheries Division, 1201 NE Lloyd Blvd., Portland, OR 97232. Comments may be submitted by email. The mailbox address for providing email comments is: Hatcheries.Public.Comment@noaa.gov. Include in the subject line of the email comment the following identifier: Comments on the Snake River Fall-run Chinook salmon hatchery permits

FOR FURTHER INFORMATION CONTACT: Andreas Raisch at (503) 230-5405 or by email at andreas.raisch@noaa.gov.

SUPPLEMENTARY INFORMATION:

ESA-Listed Species Covered in This Notice

• Chinook salmon (Oncorhynchus tshawytscha): endangered, naturally and artificially propagated Snake River Fall-run Evolutionary Significant Unit (ESU) and threatened, naturally and artificially propagated Snake River Spring/Summer-run ESU;

• Sockeye salmon (O. nerka): endangered, naturally and artificially propagated Snake River Sockeye ESU;

• Steelhead (O. mykiss): threatened, naturally and artificially propagated Snake River Steelhead Distinct Population Segment.

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for programs that are approved by NMFS under section 10(a)(1)(A) of the ESA (50 CFR 222.308).

The co-managers and funding agencies, including the NPT, WDFW, ODFW, IDFG, LSRCP, IPC, and BPA, have submitted to NMFS applications for two permits, pursuant to section 10(a)(1)(A) of the ESA, for hatchery activities in the Snake River basin. The applications are in the form of two existing HGMPs, an addendum, and a new addendum with updates to those HGMPs.

The addendums and previously submitted HGMPs describe actions involving hatchery activities (with associated monitoring and evaluation) in the Snake River basin. The programs are intended to contribute to the survival and recovery of Snake River Fall-run Chinook salmon in the Snake River basin, and to responsibly enhance fishing opportunity on hatchery-origin returns. The proposed continuation of the program would indicate best management practices to minimize adverse effects on the ESU.

(Authority: 16 U.S.C. 1531 et seq.)

Dated: July 30, 2025.
Jennifer Quan,
Regional Administrator, West Coast Region, National Marine Fisheries Service.

[FR Doc. 2025-14663 Filed 8-1-25; 8:45 am]

BILLING CODE 3510-22-P